DEPARTMENT OF COMMERCE

Foreign-Trade-Zones Board

[Order No. 1347]

Proposals to Facilitate the Use of Foreign-Trade-Zones by Small and Medium-Sized Manufacturers

Pursuant to its authority under the Foreign-Trade Zones Act, of June 18, 1934, as amended (19 U.S.C. 81a-81u), the Foreign-Trade Zones Board (the Board) adopts the following Order:

Whereas, the Foreign-Trade Zones (FTZ) Board (the Board), as part of the Department of Commerce's manufacturing initiative, has performed a benchmark analysis of the FTZ program to determine whether there are features that can be implemented to reduce the program's costs for small and medium-sized manufacturers, thereby helping to improve such companies' international competitiveness;

Whereas, the FTZ Board subsequently published a Federal Register notice on April 5, 2004 (69 FR 17643) describing two proposals ¹ to implement features identified through the benchmark analysis and inviting public comment on those proposals;

¹ The proposals involved: (1) Delegation of limited authority to the Board's Executive Secretary for decision-making on certain requests for manufacturing authority and (2) enhancements to the Board's pre-application procedures for small and medium-sized manufacturers.

Whereas, the FTZ Board staff has prepared a report (“Enhancing the Foreign-Trade Zones Program for Small and Medium-Sized Manufacturers”) recommending adoption of the proposals described in the Federal Register notice;

Now, therefore, the FTZ Board adopts the recommendations of the FTZ Board staff report and hereby delegates authority to the FTZ Board's Executive Secretary to grant temporary or interim (T/IM) authority for manufacturing within pre-existing FTZ space, subject to the conditions, restrictions, and limitations described in the Board's Federal Register notice (69 FR 17643, 4/5/04) and in the FTZ Board staff report, and further subject to a requirement that the FTZ Board staff will notify the Board members (or their delegates) of all grants of T/IM authority on a quarterly basis. The FTZ Board also authorizes the Executive Secretary to establish enhanced pre-application procedures for small and medium-sized manufacturers as described in the proposal and in the FTZ Board staff report. The effective date for implementation of this order shall be sixty (60) days from the date of publication of this notice.

Signed at Washington, DC, this 18th day of August 2004.
James J. Jochum,
Assistant Secretary of Commerce for Import Administration, Alternate Chairman, Foreign-Trade Zones Board.

[FR Doc. 04-19723 Filed 8-27-04; 8:45 am]

BILLING CODE 3510-DS-P